DEPARTMENT OF THE INTERIOR

Bureau of Land Management

[LLMTM03000.L14400000.ET0000. 16X1109AF; MO# 4500095264; MTM-82330]

Public Land Order No. 7857; Extension of Public Land Order No. 7254; Montana

AGENCY: Bureau of Land Management, Interior.

ACTION: Public land order.

SUMMARY: This order extends the duration of the withdrawal created by Public Land Order No. 7254, as corrected and amended, for an additional 20-year period, which would otherwise expire on April 9, 2017. Public Land Order No. 7254 withdrew 19,686.09 acres of public mineral estate in Toole and Liberty Counties, Montana, from location and entry under the United States mining laws, but not from leasing under the mineral leasing laws. This extension is necessary to continue to protect the Sweet Grass Hills Area of Critical Environmental Concern and surrounding areas located in Toole and Liberty Counties, Montana.

DATES: This Public Land Order is effective on April 10, 2017.

FOR FURTHER INFORMATION CONTACT: Micah Lee, Realty Specialist, at 406-262-2851, Bureau of Land Management, Havre Field Office, 3990 HWY 2 West, Havre, Montana 59501, or Deborah Sorg, Land Law Examiner at 406-896-5045, Bureau of Land Management, Montana/Dakotas State Office, 5001 Southgate Drive, Billings, Montana 59101-4669. Persons who use a telecommunications device for the deaf (TDD) may call the Federal Relay Service at 1-800-877-8339 to contact either of the above individuals. The Service is available 24 hours a day, 7 days a week, to leave a message or question with the above individuals. You will receive a reply during normal business hours.

SUPPLEMENTARY INFORMATION: The purpose for which the withdrawal was first made requires this extension to continue to protect the unique resources within the Sweet Grass Hills Area of Critical Environmental Concern and surrounding areas. The lands will remain open to the mineral and geothermal leasing laws and mineral materials disposal under the Materials Act.

Order

By virtue of the authority vested in the Secretary of the Interior by Section 204 of the Federal Land Policy and Management Act of 1976, 43 U.S.C. 1714, it is ordered as follows:

Public Land Order No. 7254 (62 FR 17633 (1997)), as corrected (62 FR 22964 (1997)), and amended (81 FR 796 (2016)), which withdrew 19,686.09 acres of public mineral estate in Toole and Liberty Counties, Montana from location and entry under the United States mining laws, is hereby extended for an additional 20-year period. The withdrawal extended by this order will expire on April 9, 2037, unless, as a result of a review conducted prior to the expiration date pursuant to Section 204(f) of the Federal Land Policy and Management Act of 1976, 43 U.S.C. 1714(f), the Secretary determines that the withdrawal shall be further extended.

Dated: November 21, 2016.
Janice M. Schneider,
Assistant Secretary—Land and Minerals Management.

[FR Doc. 2016-29316 Filed 12-6-16; 8:45 am]

BILLING CODE 4310-DN-P